DEPARTMENT OF HOUSING AND URBAN DEVELOPMENT

[Docket No. FR-5141-N-03]

Meeting of the Manufactured Housing Consensus Committee

AGENCY: Office of the Assistant Secretary for Housing—Federal Housing Commissioner, HUD.

ACTION: Notice of upcoming meeting.

SUMMARY: This notice sets forth the schedule and proposed agenda of an upcoming meeting of the Manufactured Housing Consensus Committee (the Committee). The meeting is open to the public and the site is accessible to individuals with disabilities.

DATES: Meetings will be held on Tuesday, May 22, 2007, 8 a.m. to 5 p.m., Wednesday, May 23, 2007, 8 a.m. to 5 p.m., and Thursday, May 24, 2007, 8 a.m. to 10 a.m. eastern standard time.

ADDRESSES: These meetings will be held at the Holiday Inn Arlington at Ballston, 4610 North Fairfax Drive, Arlington, Virginia 22203, telephone (703) 243-9800.

FOR FURTHER INFORMATION CONTACT: William W. Matchneer III, Associate Deputy Assistant Secretary for Regulatory Affairs and Manufactured Housing, Office of Manufactured Housing Programs, Department of Housing and Urban Development, 451 Seventh Street, SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with section 10(a)(2) of the Federal Advisory Committee Act (5 U.S.C. App. 2) and 41 CFR 102-3.150. The Manufactured Housing Consensus Committee was established under section 604(a)(3) of the National Manufactured Housing Construction and Safety Standards Act of 1974, as amended by the Manufactured Housing Improvement Act of 2000, 42 U.S.C. 5403(a)(3). The Consensus Committee is charged with providing recommendations to the Secretary to adopt, revise, and interpret manufactured housing construction and safety standards and procedural and enforcement regulations, and with developing proposed model installation standards.

Tentative Agenda:

A. Welcome and Introductions.

B. Departmental Status Reports.

C. Full Committee meeting.

D. Alternative Construction.

E. Potential Emergency MHCSS Changes.

F. Accessibility—Universal Design—Visit ability.

G. Alternative Foundation Testing Protocols.

H. Public Testimony.

I. Reports and Actions on Committee work.

J. Adjourn.

Dated: April 26, 2007.
Brian D. Montgomery,
Assistant Secretary for Housing—Federal Housing Commissioner.

[FR Doc. E7-8620 Filed 5-4-07; 8:45 am]

BILLING CODE 4210-67-P